SOCIAL SECURITY ADMINISTRATION

[Docket No: SSA-2017-0069]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0069].

I. The information collections below are pending at SSA. SSA will submit them to OMB within 60 days from the date of this notice. To be sure we consider your comments, we must receive them no later than March 13, 2018.

Individuals can obtain copies of the collection instruments by writing to the above email address.

1. Certification by Religious Group—20 CFR 404.1075—0960-0093. SSA is responsible for determining whether religious groups meet the qualifications exempting certain members and sects from payment of Self-Employment Contribution Act taxes under the Internal Revenue Code, Section 1402(g). SSA sends Form SSA-1458, Certification by Religious Group, to a group's authorized spokesperson to complete and verify organizational members meet or continue to meet the criteria for exemption. The respondents are spokespersons for religious groups or sects.

Type of Request: Revision of an OMB-approved information collection.

Modality of completion | Number of respondents | Frequency of response | Average burden per response (minutes) | Estimated total annual burden (hours)
SSA-1458 | 180 | 1 | 15 | 45

2. Claim for Amounts Due in the Case of a Deceased Beneficiary—20 CFR 404.503(b)—0960-0101. Section 204(d) of the Social Security Act (Act) provides that if an individual dies before payment under Title II is complete, SSA will pay the amount due (including the amount of any check not negotiated) to individuals meeting specified qualifications. When a Social Security payment was due to a deceased beneficiary at the time of death, and there is insufficient information in the file to identify the individual(s) entitled to the payment or the individual's address, SSA asks the surviving spouse; next of kin; or legal representative of the estate to complete Form SSA-1724, Claim for Amounts Due in the Case of a Deceased Social Security Recipient. SSA collects the information when a surviving child(ren), parent(s), or spouse is not already entitled to a monthly benefit on the same earnings record, or is not filing for a lump-sum death payment as a former spouse. SSA uses the information Form SSA-1724 provides to ensure proper payment of an underpayment due to a deceased beneficiary. The respondents are applicants for underpayments owed to deceased beneficiaries.

Type of Request: Revision of an OMB-approved information collection.

Modality of completion | Number of respondents | Frequency of response | Average burden per response (minutes) | Estimated total annual burden (hours)
SSA-1724 | 250,000 | 1 | 10 | 41,667

3. Prohibition of Payment of SSI Benefits to Fugitive Felons and Parole/Probation Violators—20 CFR 416.708(o)—0960-0617. Section 1611(e)(4) of the Act precludes eligibility for Supplemental Security Income (SSI) payments for certain fugitives and parole or probation violators. Regulations at 20 CFR 416.708(o) of the Code of Federal Regulations require individuals applying for, or receiving, SSI to report to SSA that: (1) They are fleeing to avoid prosecution for a crime; (2) they are fleeing to avoid custody or confinement after conviction of a crime; or (3) they are violating a condition of probation or parole. SSA uses the information we receive to deny eligibility, or suspend recipients' SSI payments. The respondents are SSI applicants and recipients, or representative payees of SSI applicants and recipients, who are reporting their status as a fugitive felon or probation or parole violator.

Type of Request: Revision of an OMB-approved information collection.

Modality of completion | Number of respondents | Frequency of response | Average burden per response (minutes) | Estimated total annual burden (hours)
SSI Claim System Screens | 1,000 | 1 | 1 | 17

4. Identifying Information for Possible Direct Payment of Authorized Fees—0960-0730. SSA collects information from claimants' appointed representatives on Form SSA-1695 to: (1) Process and facilitate direct payment of authorized fees; (2) issue a Form 1099-MISC, if applicable; and (3) establish a link between each claim for benefits and the data we collect on the SSA-1699 for our appointed representative database. The respondents are attorneys and other individuals who represent claimants for benefits before SSA.

Type of Request: Revision of an OMB approved information collection.

Modality of completion | Number of respondents | Frequency of response | Number of responses | Average burden per response (minutes) | Estimated total annual burden (hours)
SSA-1695 | 10,000 | 40 | 40,000 | 10 | 66,667

II. SSA submitted the information collections below to OMB for clearance. Your comments regarding these information collections would be most useful if OMB and SSA receive them 30 days from the date of this publication. To be sure we consider your comments, we must receive them no later than March 13, 2018. Individuals can obtain copies of the OMB clearance packages by writing to OR.Reports.Clearance@ssa.gov.

1. Letter to Employer Requesting Wage Information—0960-0138. SSA must establish and verify wage information for SSI applicants and recipients when determining SSI eligibility and payment amounts. SSA collects wage data from employers on Form SSA-L4201 to determine eligibility and proper payment amounts for SSI applicants and recipients. The respondents are employers of SSI applicants and recipients.

Type of Request: Revision of an OMB approved information collection.

Modality of completion | Number of respondents | Frequency of response | Average burden per response (minutes) | Estimated total annual burden (hours)
SSA-L4201 | 133,000 | 1 | 30 | 66,500

2. Request for Review of Hearing Decision/Order—20 CFR 404.967-404.981, 416.1467-416.1481—0960-0277. Claimants have a statutory right under the Act and current regulations to request review of an administrative law judge's (ALJ) hearing decision or dismissal of a hearing request on Title II and Title XVI claims. Claimants may request Appeals Council review by filing a written request using paper Form HA-520, or the internet application, i520. SSA uses the information we collect to establish the claimant filed the request for review within the prescribed time, and to ensure the claimant completed the requisite steps permitting the Appeals Council review. The Appeals Council then uses the information to: (1) Document the claimant's reason(s) for disagreeing with the ALJ's decision or dismissal; (2) determine whether the claimant has additional evidence to submit; and (3) determine whether the claimant has a representative or wants to appoint one. The respondents are claimants requesting review of an ALJ's decision or dismissal of hearing.

Type of Request: Revision of an OMB-approved information collection.

Modality of completion | Number of respondents | Frequency of response | Average burden per response (minutes) | Estimated total annual burden (hours)
HA-520—Paper | 105,000 | 1 | 10 | 17,500
i520—Internet | 70,000 | 1 | 15 | 17,500
Totals | 175,000 |  |  | 35,000

3. You Can Make Your Payment by Credit Card—0960-0462. Using information from Form SSA-4588 and its electronic application, Form SSA-4589, SSA updates individuals' Social Security records to reflect payments made on their overpayments. In addition, SSA uses this information to process payments through the appropriate credit card company. SSA provides the SSA-4588 when we inform an individual that we detected an overpayment. Individuals may choose to make a one-time payment or recurring monthly payments by completing and submitting the SSA-4588. SSA uses the SSA-4589 electronic Intranet application only when individuals choose to telephone the Program Service Centers to make a one-time payment in lieu of completing Form SSA-4588. An SSA debtor contact representative completes the SSA-4589 electronic Intranet application. Respondents are old age, survivors, and disability insurance (OASDI) beneficiaries and SSI recipients who have outstanding overpayments.

Type of Request: Revision of an OMB-approved information collection.

Modality of completion | Number of respondents | Frequency of response | Average burden per response (minutes) | Estimated total annual burden (hours)
SSA-4588 (Paper) | 16,500 | 1 | 10 | 2,750
SSA-4589 (Electronic intranet application) | 258,500 | 1 | 5 | 21,542
Totals | 275,000 |  |  | 24,292

4. Modified Benefit Formula Questionnaire—Foreign Pension—0960-0561. SSA uses Form SSA-308 to determine exactly how much (if any) of a foreign pension we can use to reduce the amount of Title II Social Security retirement or disability benefits under the modified benefit formula. In addition, SSA agreed to pay the full amount of all reductions or refund the full amount of all sums that SSA made to, or collected from, the Class member's of Social Security OASDI benefits payments (OASDI Benefits), due to the application of the Windfall Elimination Provision to those OASDI Benefits based on the receipt of Old Age Benefits from the National Institute of Israel, per the Greenberg, et al. v. Colvin case settlement. The respondents are applicants for Title II Social Security retirement or disability benefits who have foreign pensions.

Correction Notice: SSA is updating the burden information for this collection, so it differs from the information we published at 82 FR 52088, on 11/9/17.

Type of Request: Revision of an OMB-approved information collection.

Modality of completion | Number of respondents | Frequency of response | Average burden per response (minutes) | Estimated total annual burden (hours)
SSA-308 | 2,426 | 1 | 10 | 404
Greenberg Cases | 283 | 1 | 60 | 283
Totals | 2,709 |  |  | 687

5. Request to Show Cause for Failure to Appear—20 CFR 404.938, 20 CFR 416.1438, and 20 CFR 404.957(a)(ii)—0960-0794. When claimants who requested a hearing before an ALJ fail to appear at their scheduled hearing, the ALJ may reschedule the hearing if the claimants establish good cause for missing the hearings. To establish good cause, following: (1) SSA did not properly notify the claimant of the hearing, or (2) an unexpected event occurred without sufficient time for the claimant to request a postponement. The claimants can use paper Form HA-L90 or HA-L90-OP1 to provide their reason for not appearing at their scheduled hearings; or the claimants' representatives can use Electronic Records Express (ERE), OMB Control No. 0960-0753, internet screens to submit the HA-L90 online. SSA uses the HA-L90 for new cases, and the HA-L90-OP1 for redeterminations cases. We need two versions of the paper form, as the ALJ follows different procedures when determining the good cause on redetermination cases (cases that have a prior decision and evidence on file), than they do for new cases (where we have no evidence on file). The ERE modality automatically adjusts for redetermination cases, so we only need one version of the internet screens. If the ALJ determines the claimants established good cause for failure to appear at the hearing, the ALJ will schedule a supplemental hearing; if not, the ALJ will make a claims eligibility determination based on the claimants' evidence of record. Respondents are claimants, or their representatives, seeking to establish good cause for failure to appear at a scheduled hearing before an ALJ.

Type of Request: Revision of an OMB-approved information collection.

Modality of completion | Number of respondents | Frequency of response | Average burden per response (minutes) | Estimated total annual burden (hours)
HA-L90 | 39,500 | 1 | 10 | 6,583
HA-L90-OP1 | 500 | 1 | 10 | 83
Totals | 40,000 |  |  | 6,666

* We do not account for the Electronic Records Express internet screens here as we account for them under OMB Control No. 0960-0753.

Dated: January 8, 2018.
Naomi R. Sipple,
Reports Clearance Officer, Social Security Administration.

[FR Doc. 2018-00396 Filed 1-11-18; 8:45 am]

BILLING CODE 4191-02-P